DEPARTMENT OF TRANSPORTATION

Federal Aviation Administration

14 CFR Part 39

[Docket No. 2002-NM-177-AD; Amendment 39-13718; AD 2004-14-09]

RIN 2120-AA64

Airworthiness Directives; Airbus Model A320-111, -211, -212, and -231 Series Airplanes

AGENCY: Federal Aviation Administration, DOT.

ACTION: Final rule.

SUMMARY: This amendment supersedes an existing airworthiness directive (AD), applicable to certain Airbus Model A320-111, -211, -212, and -231 series airplanes, that currently requires repetitive inspections to detect fatigue cracking of the lower surface panel on the wing center box, and repair if necessary. That AD also requires modification of the lower surface panel on the wing center box, which constitutes terminating action for the repetitive inspections. This amendment reduces the compliance times for the inspections required by the existing AD. The actions specified by this AD are intended to prevent fatigue cracking of the lower surface panel on the wing center box, which could result in reduced structural integrity of the airplane. This action is intended to address the identified unsafe condition.

DATES: Effective August 13, 2004.

The incorporation by reference of Airbus Service Bulletin A320-57-1082, Revision 03, dated April 30, 2002; and Airbus Service Bulletin A320-57-1043, Revision 05, dated April 30, 2002; as listed in the regulations; is approved by the Director of the Federal Register as of August 13, 2004.

The incorporation by reference of Airbus Service Bulletin A320-57-1082, Revision 01, dated December 10, 1997; and Airbus Service Bulletin A320-57-1043, Revision 02, dated May 14, 1997; as listed in the regulations; was approved previously by the Director of the Federal Register as of November 27, 1998 (63 FR 56542, October 22, 1998).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 98-22-05, amendment 39-10851 (63 FR 56542, October 22, 1998), which is applicable to certain Airbus Model A320 series airplanes, was published in the Federal Register on February 6, 2004 (69 FR 5790). The action proposed to continue to require repetitive inspections to detect fatigue cracking of the lower surface panel on the wing center box, and repair if necessary. That action also proposed to continue to require modification of the lower surface panel on the wing center box, which would constitute terminating action for the repetitive inspections. That action also proposed to reduce the compliance times for the inspections required by the existing AD.

Comments

Interested persons have been afforded an opportunity to participate in the making of this amendment. Due consideration has been given to the comments received from a single commenter.

Request To Remove Paragraph (c)(1) of the Proposed AD

The commenter states that paragraph (c)(1) of the proposed AD (Restatement of Requirements of AD 98-22-05), conflicts with paragraph (g) of the proposed AD (New Requirements of This AD). The commenter notes that paragraph (c)(1) requires accomplishment of the modification of the lower surface panel on the wing center box per Airbus Service Bulletin A320-57-1043, Revision 02 or Revision 05, if no cracking is found during the inspection required by paragraph (c) of the proposed AD, but paragraph (g) specifies repeating the inspection per Airbus Service Bulletin A320-57-1082, Revision 01 or Revision 03, if no cracking is found. The commenter adds that French airworthiness directive 2002-342(B), dated June 26, 2002 (referenced in the proposed AD), and French airworthiness directive 97-309-104(B), dated October 27, 1997 (referenced in the existing AD), issued by the Direction Générale de l'Aviation Civile, which is the airworthiness authority for France, require accomplishment of the actions specified in Airbus Service Bulletin A320-57-1043, Revision 02 or Revision 05 only, if no cracking is found. The commenter asks that paragraph (c)(1) be removed for the reasons stated above.

The FAA partially agrees. Paragraph (g) of this AD requires repeating the inspection required by paragraph (a) or (f) of the AD if no cracking is found during either of those inspections. The inspection specified in paragraph (f) is for airplanes on which the inspection required by paragraph (a) has not been done as of the effective date of the AD, and accomplishment of the inspection constitutes terminating action for the requirements of paragraph (a). Paragraph (c)(1) specifies that accomplishment of the modification per Airbus Service Bulletin A320-57-1043, Revision 02 or Revision 05, also constitutes terminating action for the requirements of paragraph (a). Therefore, if the commenter has done the modification required by paragraph (c)(1), the repetitive inspections required by paragraph (g) are not required. We have changed paragraphs (f) and (g) for clarification, as follows: We have changed paragraph (f) to state “For airplanes on which neither the inspection required by paragraph (a) of this AD, nor the modification required by paragraph (c)(1) of this AD has been done before the effective date of this AD:” We have changed paragraph (g) to add “Accomplishment of the modification required by paragraph (c)(1) of this AD terminates the requirements of this paragraph.”

Additionally, the applicability of this AD is for Model A320 series airplanes on which Airbus Modification 22418 (reference Airbus Service Bulletin A320-57-1043) has not been done. French airworthiness directive 2002-342(B), does not require accomplishment of the actions specified in Airbus Service Bulletin A320-57-1043, but requires accomplishment of the actions specified in Airbus Service Bulletin A320-57-1082. French airworthiness directive 97-309-104(B), was cancelled upon issuance of French airworthiness directive 2002-342(B). The applicability in French airworthiness directive 2002-342(B), in part, excludes airplanes on which the actions specified in Service Bulletin A320-57-1043 have been done. No change to the AD is necessary in this regard.

Request To Change Compliance Time

The commenter states that the compliance time for the inspection required by paragraph (f)(2) of the proposed AD specifies “Prior to the accumulation of 20,000 total flight cycles, or within 3,500 flight cycles after the effective date of this AD, whichever is first.” The commenter notes that the compliance time should be “whichever occurs later.” No justification is provided for this comment.

We have coordinated this issue with the manufacturer and determined that the compliance time required by paragraph (f)(2) of this AD should specify “Prior to the accumulation of 20,000 total flight cycles, or within 3,500 flight cycles after the effective date of this AD, whichever is later.” The referenced French airworthiness directive and service information did not provide this criterion. We have determined that extending the compliance time for the inspection will continue to provide an acceptable level of safety for the affected fleet. Paragraph (f)(2) of this AD has been changed accordingly.

Request To Change Applicability

The commenter states that the models listed in French airworthiness directive 2002-342(B), dated June 26, 2002 (referenced in the proposed AD), are Airbus Model A320-111, -211, -212, and -231 series airplanes. The commenter asks that the models listed in the proposed AD (Model A320 series airplanes) be changed to match the models listed in the referenced French airworthiness directive.

We agree. French airworthiness directive 97-309-104(B), dated October 27, 1997 (referenced in the existing AD), listed Model A320 series airplanes and has since been cancelled. Therefore, we have changed the models listed in this AD to specify Model A320-111, -211, -212, and -231 series airplanes. This change corresponds with the models specified in French airworthiness directive 2002-342(B).

Conclusion

We have carefully reviewed the available data, including the comments noted above, and have determined that air safety and the public interest require adopting the AD with the changes described previously. These changes will neither increase the economic burden on any operator nor increase the scope of the AD.

Cost Impact

There are approximately 60 airplanes of U.S. registry that will be affected by this AD. This AD reduces the compliance time for the inspections required by AD 98-22-05, and consequently adds no additional costs or work. The current costs associated with that AD are repeated as follows for the convenience of affected operators:

The inspections that are currently required by AD 98-22-05, and retained in this AD, take about 2 work hours per airplane to accomplish, at an average labor rate of $65 per work hour. Based on these figures, the cost impact of the currently required inspections is estimated to be $130 per airplane, per inspection cycle.

The modification that is currently required by AD 98-22-05, and retained in this AD, will take about 2 work hours per airplane to accomplish, at an average labor rate of $65 per work hours. There are no parts necessary to accomplish the modification. Based on these figures, the cost impact of the modification currently required is estimated to be $130 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10851 (63 FR 56542, October 22, 1998), and by adding a new airworthiness directive (AD), amendment 39-13718, to read as follows:

2004-14-09 Airbus: Amendment 39-13718. Docket 2002-NM-177-AD. Supersedes AD 98-22-05, Amendment 39-10851.

Applicability: Model A320-111, -211, -212, and -231 series airplanes; certificated in any category, on which Airbus Modification 22418 (reference Airbus Service Bulletin A320-57-1043) has not been done.

Compliance: Required as indicated, unless accomplished previously.

To prevent fatigue cracking of the lower surface panel on the wing center box, which could result in reduced structural integrity of the airplane, accomplish the following:

Restatement of Requirements of AD 98-22-05

Repetitive Inspections

(a) Except as provided by paragraph (e) of this AD: Prior to the accumulation of 20,000 total flight cycles, or within 60 days after November 27, 1998 (the effective date of AD 98-22-05, amendment 39-10851), whichever occurs later, perform a high frequency eddy current inspection to detect fatigue cracking of the lower surface panel on the wing center box, in accordance with Airbus Service Bulletin A320-57-1082, Revision 01, dated December 10, 1997; or Revision 03, dated April 30, 2002. Repeat the eddy current inspection thereafter at intervals not to exceed 7,500 flight cycles until the actions required by paragraph (c) of this AD are accomplished.

Repair

(b) Except as provided by paragraph (d) of this AD: If any cracking is detected during any inspection required by paragraph (a) of this AD, prior to further flight, repair in accordance with Airbus Service Bulletin A320-57-1082, Revision 01, dated December 10, 1997; or Revision 03, dated April 30, 2002. Accomplishment of the repair constitutes terminating action for the repetitive inspections for the repaired area only.

Inspection/Modification/Repair

(c) Prior to the accumulation of 25,000 total flight cycles, or within 60 days after November 27, 1998, whichever occurs later: Perform a high frequency eddy current inspection to detect fatigue cracking of the lower surface panel on the wing center box, in accordance with Airbus Service Bulletin A320-57-1082, Revision 01, dated December 10, 1997; or Revision 03, dated April 30, 2002.

(1) If no cracking is detected: Prior to further flight, modify the lower surface panel on the wing center box, in accordance with Airbus Service Bulletin A320-57-1043, Revision 02, dated May 14, 1997; or Revision 05, dated April 30, 2002. Accomplishment of the modification constitutes terminating action for the requirements of paragraph (a) of this AD.

(2) Except as provided by paragraph (d) of this AD, if any cracking is detected: Prior to further flight, repair in accordance with Airbus Service Bulletin A320-57-1082, Revision 01, dated December 10, 1997; or Revision 03, dated April 30, 2002; and modify any uncracked area in accordance with Airbus Service Bulletin A320-57-1043, Revision 02, dated May 14, 1997; or Revision 05, dated April 30, 2002. Accomplishment of the repair of cracked area(s) and modification of uncracked area(s) constitutes terminating action for the requirements of paragraph (a) of this AD.

(d) If any cracking is detected during any inspection required by paragraph (b) or (c)(2) of this AD, and the applicable service bulletin specifies to contact Airbus for an appropriate action: Prior to further flight, repair in accordance with a method approved by either the Manager, International Branch, AMN-116, FAA, Transport Airplane Directorate; or the Direction Générale de l'Aviation Civile (or its delegated agent).

(e) The actions required by paragraph (a) of this AD are not required to be accomplished if the requirements of paragraph (c) of this AD are accomplished at the time specified in paragraph (a) of this AD.

New Requirements of this AD

Initial Inspection

(f) For airplanes on which neither the inspection required by paragraph (a) of this AD, nor the modification required by paragraph (c)(1) of this AD has been done before the effective date of this AD: Perform a high frequency eddy current inspection to detect fatigue cracking of the lower surface panel on the wing center box, in accordance with Airbus Service Bulletin A320-57-1082, Revision 01, dated December 10, 1997; or Revision 03, dated April 30, 2002; at the later of the times specified in paragraphs (f)(1) and (f)(2) of this AD. Accomplishment of the inspection required by this paragraph terminates the requirements of paragraph (a) of this AD.

(1) Prior to the accumulation of 13,200 total flight cycles or 39,700 total flight hours after the effective date of this AD, whichever is first.

(2) Prior to the accumulation of 20,000 total flight cycles, or within 3,500 flight cycles after the effective date of this AD, whichever is later.

Repetitive Inspections

(g) If no cracking is detected during the inspection required by paragraph (a) or (f) of this AD: Repeat the inspection at the applicable time specified in paragraph (g)(1) or (g)(2) of this AD. Accomplishment of the modification required by paragraph (c)(1) of this AD terminates the requirements of this paragraph.

(1) For airplanes on which the inspections required by paragraph (a) of this AD have been done before the effective date of this AD: Do the next inspection within 5,700 flight cycles after accomplishment of the last inspection, or within 1,800 flight cycles after the effective date of this AD, whichever is later. Repeat the inspection thereafter at intervals not to exceed 5,700 flight cycles.

(2) For airplanes on which no inspection required by paragraph (a) of this AD has been done before the effective date of this AD: Do the next inspection within 5,700 flight cycles after accomplishment of the inspection required by paragraph (f) of this AD. Repeat the inspection thereafter at intervals not to exceed 5,700 flight cycles.

Repair/Modification

(h) If any cracking is detected during any inspection required by paragraph (f) or (g) of this AD, prior to further flight, repair in accordance with Airbus Service Bulletin A320-57-1082, Revision 01, dated December 10, 1997; or Revision 03, dated April 30, 2002; and modify any uncracked area in accordance with Airbus Service Bulletin A320-57-1043, Revision 02, dated May 14, 1997; or Revision 05, dated April 30, 2002. Where Airbus Service Bulletin A320-57-1082 specifies to contact Airbus for an appropriate repair action: Prior to further flight, repair in accordance with a method approved by either the Manager, International Branch, ANM-116, FAA, Transport Airplane Directorate; or the Direction Générale de l'Aviation Civile (DGAC) (or its delegated agent). Accomplishment of the repair of cracked area(s) and modification of uncracked area(s) constitutes terminating action for the requirements of this AD.

Actions Done per Previous Issues of Service Bulletins

(i) Accomplishment of inspections and repairs before the effective date of this AD in accordance with Airbus Service Bulletin A320-57-1082, Revision 02, dated July 26, 1999; and accomplishment of the modification before the effective date of this AD in accordance with Airbus Service Bulletin Airbus Service Bulletin A320-57-1043, dated February 16, 1993; Revision 01, dated June 14, 1996; Revision 03, dated October 24, 1997; or Revision 04, dated March 15, 1999; are considered acceptable for compliance with the applicable actions specified in this AD.

Alternative Methods of Compliance

(j) In accordance with 14 CFR 39.19, the Manager, International Branch, ANM-116, is authorized to approve alternative methods of compliance for this AD.

Incorporation by Reference

(k) Unless otherwise provided in this AD, the actions shall be done in accordance with Airbus Service Bulletin A320-57-1082, Revision 01, dated December 10, 1997; Airbus Service Bulletin A320-57-1082, Revision 03, dated April 30, 2002; Airbus Service Bulletin A320-57-1043, Revision 02, dated May 14, 1997; and Airbus Service Bulletin A320-57-1043, Revision 05, dated April 30, 2002; as applicable.

(1) The incorporation by reference of Airbus Service Bulletin A320-57-1082, Revision 03, dated April 30, 2002; and Airbus Service Bulletin A320-57-1043, Revision 05, dated April 30, 2002; is approved by the Director of the Federal Register in accordance with 5 U.S.C. 552(a) and 1 CFR part 51.

(2) The incorporation by reference of Airbus Service Bulletin A320-57-1082, Revision 01, dated December 10, 1997; and Airbus Service Bulletin A320-57-1043, Revision 02, dated May 14, 1997; was approved previously by the Director of the Federal Register as of November 27, 1998 (63 FR 56542, October 22, 1998).

(3) Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Note 1: The subject of this AD is addressed in French airworthiness directive 2002-342(B), dated June 26, 2002.

Effective Date

(l) This amendment becomes effective on August 13, 2004.

Issued in Renton, Washington, on June 29, 2004.
Kalene C. Yanamura,
Acting Manager, Transport Airplane Directorate, Aircraft Certification Service.

[FR Doc. 04-15372 Filed 7-8-04; 8:45 am]

BILLING CODE 4910-13-P